DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alaska: Valdez-Cordova Census Area (FEMA Docket No.: B-2056) | City of Valdez (19-10-0070P) | The Honorable Jeremy O'Neil, Mayor, City of Valdez, P.O. Box 307, Valdez, AK 99686 | City Hall, 212 Chenega Avenue, Valdez, AK 99686 | Nov. 13, 2020 | 020094
Florida:
Clay (FEMA Docket No.: B-2417) | Unincorporated Areas of Clay County (23-04-0524P) | Howard Wanamaker, Manager, Clay County, P.O. Box 1366, Green Cove Springs, FL 32043 | Clay County Public Works Department, 5 Esplanade Avenue, Green Cove Springs, FL 32043 | Jun. 14, 2024 | 120064
Duval (FEMA Docket No.: B-2417) | City of Jacksonville (23-04-0524P) | The Honorable Donna Deegan, Mayor, City of Jacksonville, 117 West Duval Street, Suite 400, Jacksonville, FL 32202 | Edward Ball Building Development Services, 214 North Hogan Street, Room 2100, Jacksonville, FL 32202 | Jun. 14, 2024 | 120077
Duval (FEMA Docket No.: B-2417) | City of Jacksonville (23-04-3892P) | The Honorable Donna Deegan, Mayor, City of Jacksonville, 117 West Duval Street, Suite 400, Jacksonville, FL 32202 | Edward Ball Building Development Services, 214 North Hogan Street, Room 2100, Jacksonville, FL 32202 | Jun. 21, 2024 | 120077
Idaho:
Lincoln (FEMA Docket No.: B-2417) | City of Shoshone (23-10-0335P) | The Honorable Dan Pierson, Mayor, City of Shoshone, 207 South Rail Street, West Shoshone, ID 83352 | Lincoln County Courthouse, 111 West B Street #C, Shoshone, ID 83352 | May 23, 2024 | 160096
Lincoln (FEMA Docket No.: B-2417) | Unincorporated Areas of Lincoln County (23-10-0335P) | Rebecca Wood, County Commissioner, Lincoln County, 111 West B Street #C, Shoshone, ID 83352 | Lincoln County Courthouse, 111 West B Street #C, Shoshone, ID 83352 | May 23, 2024 | 160216
Illinois: Will (FEMA Docket No.: B-2429) | Unincorporated Areas of Will County (23-05-2762P) | Jennifer Bertino-Tarrant, Will County Executive, Will County Office Building, 302 North Chicago Street, Joliet, IL 60432 | Will County Land Use Department, 58 East Clinton Street, Suite 100, Joliet, IL 60432 | Jun. 26, 2024 | 170695
Indiana:
Marion (FEMA Docket No.: B-2429) | City of Indianapolis (23-05-1479P) | The Honorable Joe Hogsett, Mayor, City of Indianapolis, City-County Building, 200 East Washington Street, Suite 2501, Indianapolis, IN 46204 | City Hall, 1200 Madison Avenue, Suite 100, Indianapolis, IN 46225 | Jul. 10, 2024 | 180159
Hamilton (FEMA Docket No.: B-2417) | City of Westfield (22-05-3141P) | The Honorable Andy Cook, Mayor, City of Westfield, 2728 East 171St Street, Westfield, IN 46074 | Town Hall, 130 Penn Street, Westfield, IN 46074 | May 28, 2024 | 180083
Iowa: Warren (FEMA Docket No.: B-2417) | City of Norwalk (23-07-0588P) | The Honorable Tom Phillips, Mayor, City of Norwalk, City Hall, 705 North Avenue, Norwalk, IA 50211 | Community Development and Planner's Office, 705 North Avenue, Norwalk, IA 50211 | May 24, 2024 | 190631
Kansas: Sedgwick (FEMA Docket No.: B-2417) | City of Wichita (23-07-0427P) | The Honorable Brandon Whipple, Mayor, City of Wichita, 455 North Main, 1st Floor, Wichita, KS 67202 | Office of Storm Water Management, 455 North Main Street, 8th Floor, Wichita, KS 67202 | Jun. 3, 2024 | 200328
Michigan:
Macomb (FEMA Docket No.: B-2417) | Charter Township of Shelby (22-05-2880P) | Richard Stathakis, Supervisor, Board of Trustees, Charter Township of Shelby, 52700 Van Dyke Avenue, Shelby Township, MI 48316 | Municipal Offices, 52700 Van Dyke Avenue, Shelby Township, MI 48316 | May 6, 2024 | 260126
Macomb (FEMA Docket No.: B-2417) | City of Utica (22-05-2880P) | The Honorable Gus Calandrino, Mayor, City of Utica, 7550 Auburn Road, Utica, MI 48087 | City Hall, 7550 Auburn Road, Utica, MI 48087 | May 6, 2024 | 260608
Oakland (FEMA Docket No.: B-2417) | City of Southfield (23-05-1231P) | The Honorable Kenson J. Siver, Mayor, City of Southfield, 26000 Evergreen Road, Southfield, MI 48037 | City Hall, 26000 Evergreen Road, Southfield, MI 48037 | Jun. 21, 2024 | 260179
Minnesota:
Lyon (FEMA Docket No.: B-2417) | City of Ghent (22-05-2884P) | The Honorable Doug Anderson, Mayor, City of Ghent, P.O. Box 97, Ghent, MN 56239 | City Hall, 107 North Chapman Street, Ghent, MN 56239 | May 24, 2024 | 270257
Lyon (FEMA Docket No.: B-2417) | Unincorporated Areas of Lyon County (22-05-2884P) | Rick Anderson, Chair, Lyon County Board of Commissioners, 2332 140th Street, Balaton, MN 56115 | Lyon County Planning and Zoning Department, 1424 East College Drive #600, Marshall, MN 56258 | May 24, 2024 | 270256
Missouri:
St. Louis (FEMA Docket No.: B-2417) | City of Ladue (23-07-0790P) | The Honorable Nancy Spewak, Mayor, City of Ladue, 9345 Clayton Road, Ladue, MO 63141 | Public Works Department, 9345 Clayton Road, Ladue, MO 63141 | May 20, 2024 | 290363
St. Louis (FEMA Docket No.: B-2417) | City of Rock Hill (23-07-0790P) | The Honorable Edward Mahan, Mayor, City of Rock Hill, 827 North Rock Hill Road, Rock Hill, MO 63119 | City Hall, 320 West Thornton Avenue, Rock Hill, MO 63119 | May 20, 2024 | 290382
New Jersey: Mercer (FEMA Docket No.: B-2417) | Borough of Hightstown (23-02-0254P) | The Honorable Susan Bluth, Mayor, Borough of Hightstown, 156 Bank Street, Hightstown, NJ 08520 | Clerk's Office, 156 Bank Street, Hightstown, NJ 08520 | May 24, 2024 | 340247
New York:
Clinton (FEMA Docket No.: B-2417) | Town of Black Brook (23-02-0675P) | Jon Douglass, Supervisor, Town of Black Brook, 18 North Main Street, AuSable Forks, NY 12912 | Town Hall, 18 North Main Street, AuSable, NY 12912 | Jun. 20, 2024 | 361309
Clinton (FEMA Docket No.: B-2417) | Town of Schuyler Falls (23-02-0675P) | Kevin Randall, Supervisor, Town of Schuyler Falls, Town Hall, P.O. Box 99, Morrisonville, NY 12962 | Town Office, 997 Mason Street, Schuyler Falls, NY 12962 | Jun. 20, 2024 | 360172
Rockland (FEMA Docket No.: B-2405) | Town of Clarkstown (23-02-0495P) | George Hoehmann, Supervisor, Town of Clarkstown, 10 Maple Avenue, New City, NY 10956 | Town Hall, 10 Maple Avenue, New City, NY 10956 | May 22, 2024 | 360679
Ohio:
Delaware: (FEMA Docket No.: B-2417) | Unincorporated Areas of Delaware County (23-05-2724P) | Jeff Benton, Chair, Delaware County Board of Commissioners, 91 North Sandusky Street, Delaware, OH 43015 | Delaware County Building Regulations, 50 Channing Street, South Wing, Delaware, OH 43015 | May 9, 2024 | 390146
Lorain (FEMA Docket No.: B-2429) | City of North Ridgeville (23-05-0136P) | The Honorable Kevin Corcoran, Mayor, City of North Ridgeville, City Hall, 7307 Avon Belden Road, North Ridgeville, OH 44039 | City Hall, 7307 Avon Belden Road, North Ridgeville, OH 44039 | Jul. 5, 2024 | 390352
Lucas (FEMA Docket No.: B-2429) | City of Toledo (23-05-2723P) | The Honorable Wade Kapszukiewicz, Mayor, City of Toledo, 1 Government Center, 640 Jackson Street, Toledo, OH 43604 | Department of Inspection, 1 Government Center, Suite 1600, Toledo, OH 43604 | Jul. 8, 2024 | 395373
Lucas (FEMA Docket No.: B-2429) | Unincorporated Areas of Lucas County (23-05-2723P) | Jessica Ford, Administrator, Lucas County, 1 Government Center, Suite 800, Toledo, OH 43604 | Lucas County Engineer's Office, 1049 South McCord Road, Holland, OH 43528 | Jul. 8, 2024 | 390359
Montgomery (FEMA Docket No.: B-2417) | City of Centerville (23-05-1144P) | The Honorable Brooks Compton, Mayor, City of Centerville, City Offices, 350 Roselake Drive, Centerville, OH 45458 | Municipal Government Center, 100 West Spring Valley Road, Centerville, OH 45458 | Jun. 21, 2024 | 390408
Oregon: Multnomah (FEMA Docket No.: B-2417) | City of Portland (23-10-0473P) | The Honorable Ted Wheeler, Mayor, City of Portland, 1221 Southwest 4th Avenue, Room 340, Portland, OR 97204 | Bureau of Environmental Services, 1221 Southwest 4th Avenue, Room 230, Portland, OR 97204 | May 24, 2024 | 410183
South Carolina:
Richland FEMA Docket No.: B-2429) | City of Columbia (23-04-4451P) | The Honorable Daniel J. Rickenmann, Mayor, City of Columbia, 1737 Main Street, Columbia, SC 29201 | Department of Utilities and Engineering, 1136 Washington Street, Columbia, SC 29201 | Jul. 1, 2024 | 450172
Richland FEMA Docket No.: B-2429) | City of Forest Acres (23-04-4451P) | The Honorable Thomas Andrews, Mayor, City of Forest Acres, City Hall, 5209 North Trenholm Road, Forest Acres, SC 29206 | City Hall, 5209 North Trenholm Road, Forest Acres, SC 29206 | Jul. 1, 2024 | 450174
Richland FEMA Docket No.: B-2429) | Unincorporated Areas of Richland County (23-04-4451P) | Jesica Mackey, Chair, Richland County, P.O. Box 192, Columbia, SC 29201 | Richland County Department of Public Works, 400 Powell Road, Columbia, SC 29203 | Jul. 1, 2024 | 450170

[FR Doc. 2024-17833 Filed 8-9-24; 8:45 am]

BILLING CODE 9110-12-P